DEPARTMENT OF TRANSPORTATION

Federal Motor Carrier Safety Administration

[Docket No. FMCSA-2016-0211]

Qualification of Drivers; Exemption Applications; Vision

AGENCY: Federal Motor Carrier Safety Administration (FMCSA), DOT.

ACTION: Notice of denials.

SUMMARY: FMCSA announces its denial of 84 applications from individuals who requested an exemption from the Federal vision standard applicable to interstate truck and bus drivers and the reasons for the denials. FMCSA has statutory authority to exempt individuals from the vision requirement if the exemptions granted will not compromise safety. The Agency has concluded that granting these exemptions does not provide a level of safety that will be equivalent to, or greater than, the level of safety maintained without the exemptions for these commercial motor vehicle (CMV) drivers.

FOR FURTHER INFORMATION CONTACT: Ms. Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays.

SUPPLEMENTARY INFORMATION:

Background

Under 49 U.S.C. 31136(e) and 31315, FMCSA may grant an exemption from the Federal vision standard for a renewable 2-year period if it finds “such an exemption would likely achieve a level of safety that is equivalent to or greater than the level that would be achieved absent such an exemption.” The procedures for requesting an exemption are set forth in 49 CFR part 381.

Accordingly, FMCSA evaluated 84 individual exemption requests on their merit and made a determination that these applicants do not satisfy the criteria eligibility or meet the terms and conditions of the Federal exemption program. Each applicant has, prior to this notice, received a letter of final disposition on the exemption request. Those decision letters fully outlined the basis for the denial and constitute final Agency action. The list published in this notice summarizes the Agency's recent denials as required under 49 U.S.C. 31315(b)(4) by periodically publishing names and reasons for denial.

The following 3 applicants did not have sufficient driving experience over the past 3 years under normal highway operating conditions:

Joseph L. Duey III (PA)

Randy C. Kephart (MN)

Cody C. Mendenhall (IL)

The following 19 applicants had no experience operating a CMV:

Joseph W. Adkisson (CA)

Muhammad S. Chaudry (NY)

Connie M. Dessaso (VA)

Kira A. Gordon (NC)

Donald J. Jannuzzi (OR)

Justin E. Johnson (MN)

Trevor M. Kayser (IA)

Brandon P. Krippner (MN)

Angel E. Lee (VA)

James D. Longworth (TN)

Donald O. McGee (MO)

Daniel C. McLain (VA)

Steve A. Nicks (WI)

William T. Oates (OR)

George A. Rodriguez (NC)

Chad A. Sager (VA)

Roger T. Scharlack (CT)

Phillip J. Shipp (TX)

Susan B. Williams (VA)

The following 15 applicants did not have 3 years of experience driving a CMV on public highways with their vision deficiencies:

Dionel Arroyo (NJ)

Herald J. Cox (IN)

William H. Darden (MS)

Matthew A. Edmonds )OH)

Roberto Flores (IL)

Jerry L. Foreman (IN)

Jerimiah C. Garon (SD)

Jason S. Gessele (ND)

Morris L. Hickman (VA)

Robert V. Lang, Jr. (MI)

Michael K. Leonhardt (NM)

Hollisa I. Richardson (IL)

Sylvester L. Richardson (IL)

Lanny R. Rumbo (OK)

Sean D. Shuemake (PA)

The following 7 applicants did not have 3 years of recent experience driving a CMV with the vision deficiency:

Phillip E. Bukovsky (OH)

Erick S. Cardenas (CA)

William J. Cuadra (FL)

Albert B. Lott (SC)

Jose O. Quinto (UT)

Joe L. Richey (TX)

Gary M. Stokes (AL)

The following 5 applicants did not have sufficient driving experience during the past 3 years under normal highway operating conditions:

Tanner H. Brooks (MS)

Mervin Duplessis, Jr. (LA)

Thomas Gonzalez (PA)

Anatolio Gracia (CA)

Samuel L. Kirkpatrick (OH)

The following 14 applicants were denied for multiple reasons:

Douglas Berry (PA)

Daniel M. Cervantes (NE)

Kevin J. Embrey (IN)

Trina L. Garcia (CA)

Eugene K. Lockwood (OH)

Caleb D. Moses (IA)

Glenn P. Nickerson (ME)

Eric E. Olson (VT)

Timothy Parramore (NC)

Jeffrey W. Pike, Jr. (MN)

Rodger S. Simmons (LA)

Steven T. Stasiak (NY)

Zachary M. Tarryk (CT)

Octavia E. Williams (MO)

The following applicant, Kelly L. Ewing (PA), held 2 commercial driver's licenses simultaneously.

The following 7 applicants met the current federal vision standards. Exemptions are not required for applicants who meet the current regulations for vision:

Michael E. Baker (VT)

William C. Christiansen (NH)

Mihail Crudu (FL)

Franklin T. Harrell, Jr. (GA)

Suzanne Morgan (FL)

Rene J. Patenuade (VT)

Leif H. Stensrud (NV)

The following applicant, Edward A. Iverson (ND), drove interstate while restricted to intrastate driving.

The following 8 applicants will not be driving interstate, in interstate commerce, or are not required to carry a DOT medical card:

Laurance D. Coppa (FL)

Tyler L. Gentry (OH)

Billy W. Hysmith (FL)

Randy W. Lindsey (GA)

Mark L. McHenry (PA)

Lucio Nieves (FL)

Jeremy D. Pruemer (IL)

Robert D. Schatz (PA)

Finally, the following 4 applicants perform transportation for the Federal government, State, or any political subdivision of the state.

Andrew R. Clere (OH)

Robert J. Drumm (NM)

Veronica Gray (NJ)

John P. Steffens (CO)

Issued on: November 4, 2015.
Larry W. Minor,
Associate Administrator for Policy.

[FR Doc. 2016-27650 Filed 11-16-16; 8:45 am]

BILLING CODE 4910-EX-P